DEPARTMENT OF TRANSPORTATION

Federal Aviation Administration

Notice of Availability of the Finding of No Significant Impact/Record of Decision and Adoption of the Wyoming Army National Guard Environmental Assessment for the Establishment of Controlled Firing Areas

AGENCY: Federal Aviation Administration (FAA), Department of Transportation.

ACTION: Notice of Availability of the Finding of No Significant Impact (FONSI)/Record of Decision (ROD).

SUMMARY: The FAA announces its decision to adopt the Wyoming Army National Guard (WYARNG) Environmental Assessment (EA), entitled Training and Maneuver Activities at Camp Guernsey, Guernsey, Wyoming, for the establishment of three Controlled Firing Areas (CFA) at Camp Guernsey. Under the Proposed Action, the CFAs would be established for up to two years. This notice announces that, based on its independent review and evaluation of the EA and supporting documents, the FAA is adopting portions of the EA associated with the CFAs and issuing a FONSI/ROD for the establishment of the Camp Guernsey CFAs.

FOR FURTHER INFORMATION CONTACT: Shawn M. Kozica, Manager, Operations Support Group, Western Service Center, Federal Aviation Administration, 2200 S 216th St., Des Moines, WA, 98198-6547; telephone: (206) 231-2251.

SUPPLEMENTARY INFORMATION:

Background

The FAA Proposed Action is the establishment of three CFAs: CFA North, CFA West, and CFA South. The CFAs would be established, up to two years, and would be replaced by the permanent establishment of three RAs: R-7002A, R-7002C, and R-7002B, respectively. While the EA analyzed both CFAs and RAs, only the CFAs are ripe for an FAA decision at this time and are the subject of the FAA's FONSI/ROD.

Given the temporary nature of CFAs, as well as the timeline for the establishment of the permanent RAs, the WYARNG is first pursuing the establishment of CFAs. The CFAs would permit usage of the proposed airspace for hazardous activities for two years until the RA has been established. During the two-year interim period following the establishment of the CFAs, the WYARNG would prepare and submit an Aeronautical Proposal to the FAA for the establishment of three RAs: R-7002A, R-7002B, and R-7002C.

The WYARNG's Proposed Action consists of both land-based activities (training and maneuver) and airspace activities that require Special Use Airspace (SUA) in the form of a CFA or Restricted Area (RA). Some of the proposed land-based activities use field artillery that requires the establishment of surface distance zones (SDZ) for safety reasons. These SDZs provide separation of the field artillery from aircraft (civilian and military traversing the airspace). The proposed CFAs and RAs would accommodate the SDZs.

Implementation

After evaluating the EA, the FAA has issued a FONSI/ROD to establish three CFAs. CFA North would be established up to and including 16,000 feet mean sea level (MSL), and would be used approximately 20 days per year. CFA South would be established up to and including 12,500 feet MSL and would be used approximately 20 days per year. CFA West would be established up to and including 17,500 feet MSL and would be used approximately 20 days per year.

In accordance with Section 102 of the National Environmental Policy Act of 1969 (NEPA), the Council on Environmental Quality's (CEQ) regulations for implementing NEPA (40 CFR parts 1500-1508), and other applicable authorities (including FAA Order 1050.1F, Environmental Impacts: Policies and Procedures, paragraph 8-2, and FAA Order JO 7400.2M, Procedures for Handling Airspace Matters, paragraph 32-2-3), the FAA has conducted an independent review and evaluation of the WYARNG's EA, dated March 2020. As a cooperating agency with responsibility for approving SUA under 49 U.S.C. 40103(b)(3)(A), the FAA provided subject matter expertise and coordinated with the WYARNG during the environmental review process. The implementation of the proposed CFAs would fulfill the FAA's requirements to ensure the safe and efficient use of navigable airspace pursuant to 49 U.S.C. 47101(a)(1), which describes the FAA's authority and regulatory responsibilities.

The WYARNG provided the Draft EA for public review from February 25-March 11, 2020, and one comment was received from the Bureau of Reclamation indicating an incorrect date of the Free Use Permit. The date has since been corrected in the EA.

The FONSI/ROD and EA are available upon request by contacting Shawn M. Kozica, Manager, Operations Support Group, Western Service Center, Federal Aviation Administration, 2200 S 216th St., Des Moines, WA, 98198-6547; telephone: (206) 231-2251.

Shawn M. Kozica,
Manager, Operations Support Group, Western Service Center.

[FR Doc. 2020-13570 Filed 6-23-20; 8:45 am]

BILLING CODE 4910-13-P